DEPARTMENT OF DEFENSE

Department of the Air Force

Notice of Availability of Federally Owned Inventions

Pursuant to the provisions of part 404 of title 37, Code of Federal Regulations, which implements Pub. L. 96-517, the Department of the Air Force announces the availability of certain Air Force owned inventions. The following list of patent applications and patents are available for Nonexclusive or Exclusive Licensing from the Air Force Research Laboratory (AFRL/DE or /VS) at Kirtland Air Force Base (AFB). Additional information concerning the inventions is available upon request.

All communications concerning this Notice should be sent to Mr. Kenneth Callahan, Patent Attorney, 377 ABW/JAN, 2251 Maxwell SE, Kirtland AFB, NM 87117. Mr. Callahan can be reached by telephone at (505) 846-1542, e-mail: Kenneth.Callahan@Kirtland.AF.MIL, or fax to (505) 846-0279.

Air Force Research Laboratory Patents Available for Licensing at Kirtland AFB, NM
| Title of invention
Application:
09/563,469 | Hermetically Sealed, High Energy Trigatron Switch.
09/562,873 | Multifunctional Capillary System for Hoop Heat Pipe.
09/558,527 | Circuit for Deriving the Position of a Fast Pulsing Laser.
09/558,456 | Pneumatic Airborne Ejection System for Spacecraft Stages From Wide Body and Jet Transport Aircraft.
09/550,582 | Smart Docking Surface for Space Serviceable Nano and Micro Satellites.
09/504,551 | Space-based CW Laser Detector Package.
09/493,508 | Birefringence Compensation Using a Single Nd:YAG Rod.
09/465,021 | Liquid Spray Phase Change Cooling of Laser Devices.
09/444,984 | Solar Sail for Power Generation in Space.
09/388,571 | Space Environment Protection Satellite Door.
09/387,992 | Molecular Field Programmable Gate Array.
09/384,901 | Passive Vibroacoustic Attenuator for Structural Acoustic Control.
09/372,725 | Broadband Grating Spectrometer Based on Dualband Focal Plane Array.
09/372,724 | Adaptive Herschel-Quincke Tubes.
09/326,058 | Composite ChamberCore Sandwich-type Structure with Inherent Acoustic Attenuation.
09/277,596 | Ultra Wideband RF-enhanced Chemotherapy for Cancer Treatment.
09/277,595 | Whole-spacecraft Hybrid (Active/Passive) Isolation System for Launch Vehicles.
09/277,593 | Time Domain Focused High-power Microwave System for Cancer Treatment.
09/266,181 | High-density Optical Interconnect with an Increased Tolerance of Misalignment.
09/252,379 | Coupled Helmholtz Resonators for Broadband Acoustic Attenuation.—Allowed.
09/231,149 | Active Edge Controlled Optical Quality Membrane Mirror.—Allowed.
09/178,876 | Advanced Instrument Controller.
09/169,495 | Post Process Metallization Interconnects for Microelectromechanical Systems (MEMS).
09/169,494 | Post Process Deposition Shielding for Microelectromechanical Systems.—Allowed.
09/092,608 | Liquid Crystal Active Optics Correction for Large Space-Based Optical Systems.—Allowed.
Patent No.:
6,061,034 | Power Enhancer for Solid-state Switched Ultra Wideband Pulsers and array Transmitters.
6,047,541 | HAN TEAN Mixing Gas Generator Propellant Tank Pressurizer for Launch Vehicles and Spacecraft.
6,040,935 | Flexureless Multi-Stable Micromirrors for Optical Switching.
6,034,351 | Cryogenic Pupil Stop for Dual-Band Infrared Focal Plane Array.
6,028,689 | Multi-motion Micromirror.
6,020,724 | Regulated Capacitor Charging Circuit Using a High Reactance Transformer.
6,005,305 | Magnetic Voltage-Pulser.
5,944,913 | High-Efficiency Multiple-Junction Solar Cells.
5,923,687 | Bandwidth Enhancement and Broadband Noise Reduction in Injection-Locked Semiconductor Lasers.
5,900,986 | Columnar Focal Lens.
5,835,545 | Compact Intense Radiation System.
5,808,226 | Grenade Shell Laser System.
5,774,490 | Diode-Pumped Tm: YAG/HBr Four-Micron Laser System.
5,773,787 | Plasma Gun Voltage Generator.
5,760,496 | Inverse-Pinch Voltage Pulse Generator.
5,748,657 | High Efficiency Constant Current Laser Drivers.
5,742,045 | Apparatus Using Diode Laser Logic to Form a Configurable Optical Gate System.
5,734,303 | Microwave Waveguide Mode Converter Having a Bevel Output End.
5,727,016 | Spatially Coherent Diode Laser With Lenslike Media and Feedback From Straight-Toothed Gratings.
5,705,959 | High Efficiency Low Distortion Amplification.
5,696,786 | Solid-State Laser System.
5,694,602 | Weighted System and Method for Spatial Allocation of a Parallel Load.
5,689,958 | High Efficiency Thermal Electric Cooler Driver.
5,675,604 | Portable Pumped Laser System.
5,658,488 | Regeneration of BHP in a Plant Process.
5,656,873 | Transmission Line Charging.
5,646,764 | Optical Beam Scanner With Rotating Transmissive Optics.
5,629,802 | Spatially Multiplexed Optical Signal Processor.
5,604,642 | Laser Welding of Light-Weight Honeycomb Mirrors.
5,604,431 | Integrated Grid Particle Impact Detector.
5,602,387 | Method of Protecting an RF Receiver in a Hostile Electromagnetic Environment.
5,567,995 | Multi-Winding Spiral Generator.
5,557,699 | NLO Waveguide and Switch and Method.
5,553,629 | Portable Medical Laser Pack System.
5,535,029 | Spatial Light Modulator Having Amplitude Coupled With Binary Phase Mode.
5,504,578 | Temporal Fringe Pattern Analysis System of a Laser Gain Media.
5,500,865 | Phased Cascading of Multiple Nonlinear Optical Elements for Frequency Conversion.
5,458,043 | Battery Charging Capacitors Electromagnetic Launcher.
5,457,685 | Multi-Speaker Conferencing Over Narrowband Channels.
5,444,308 | Nanosecond Transmission Line Charging Apparatus.
5,425,044 | Compact, Burst Mode, Pulsed, High Energy, Blowdown Flow Photolytic Atomic Iodine Laser.
5,422,047 | Carbonaceous Fuel Particles.
5,410,558 | Variable Short Period Electron Beam Wiggler for Free Electron Lasers.
5,406,072 | Method for Microbeam Ion Radiation Testing of Photonic Devices.

Janet A. Long,
Air Force Federal Register Liaison Officer.

[FR Doc. 00-14287 Filed 6-6-00; 8:45 am]

BILLING CODE 5001-05-P